COMMITTEE FOR PURCHASE FROM PEOPLE WHO ARE BLIND OR SEVERELY DISABLED

Procurement List; Proposed Additions and Deletions

AGENCY: Committee for Purchase From People Who are Blind or Severely Disabled.

ACTION: Proposed additions to and deletions from the Procurement List.

SUMMARY: The Committee is proposing to add a service and products to the Procurement List that will be furnished by nonprofit agencies employing persons who are blind or have other severe disabilities and to delete products and a service previously furnished by such agencies.

DATES: Comments must be received on or before: 2/24/2014.

ADDRESSES: Committee for Purchase From People Who are Blind or Severely Disabled, 1401 S. Clark Street, Suite 10800, Arlington, Virginia, 22202-4149.

FOR FURTHER INFORMATION CONTACT: Patricia Briscoe, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the service and products listed below from nonprofit agencies employing persons who are blind or have other severe disabilities.

The following service and products are proposed for addition to Procurement List for production by the nonprofit agencies listed:

Service

Service Type: Grounds Maintenance.

Service Location: Utah Data Center Campus, 11600 Redwood Road, Bluffdale, UT, Camp Williams, UT.

NPA: Community Foundation for the Disabled, Inc.

Contracting Activity: National Service Agency, Fort Meade, MD.

Products

Plate, Paper, White, Round

NSN: 7350-00-290-0593—6½″ Diameter.

NSN: 7350-00-290-0594—9″ Diameter.

NPA: The Lighthouse for the Blind in New Orleans, Inc., New Orleans, LA.

Contracting Activity: General Services Administration, Fort Worth, TX.

Coverage: A-List for the Total Government Requirement as aggregated by the General Services Administration.

Binder, Round Ring, Rigid Cover

NSN: 7510-00-579-2751—Black, 2″ Capacity, 8½″ × 11″.

NPA: South Texas Lighthouse for the Blind, Corpus Christi, TX.

Contracting Activity: General Services Administration, New York, NY.

Coverage: B-List for the Broad Government Requirement as aggregated by the General Services Administration.

Tape, Electrical Insulation

NSN: 5970-01-245-7042—Black, 1″ w × 108 ft.

NSN: 5970-01-013-9367—White, 3/4″ w × 66 ft.

NPA: Cincinnati Association for the Blind, Cincinnati, OH.

Contracting Activity: Defense Logistics Agency Aviation, Richmond, VA.

Coverage: B-List for the Broad Government Requirement as aggregated by the Defense Logistics Agency Contracting Office, Richmond, VA.

Deletions

The following products and service are proposed for deletion from the Procurement List:

Products

Kit, Combination Dustpan and Broom

NSN: 7290-00-NIB-0002.

NPA: New York City Industries for the Blind, Inc., Brooklyn, NY.

Contracting Activity: Department of Veterans Affairs, NAC, Hines, IL.

Tape, Electronic Data Processing

NSN: 7045-01-115-0502.

NPA: North Central Sight Services, Inc., Williamsport, PA.

Contracting Activity: Defense Logistics Agency Troop Support, Philadelphia, PA.

Card, Index

NSN: 7530-00-281-1315—Green.

NPA: Louisiana Association for the Blind, Shreveport, LA.

Contracting Activity: General Services Administration, New York, NY.

PURELL/SKILCRAFT Instant Hand Sanitizer Value Pack

NSN: 8520-00-NIB-0109.

NSN: 8520-00-NIB-0110.

PURELL/SKILCRAFT 1200mL Anitbacterial Hand Wash Sanitizer

NSN: 8520-00-NIB-0111.

PURELL/SKILCRAFT-GOJO Instant Hand Sanitizer

NSN: 8520-00-NIB-0117—gel.

NSN: 8520-00-NIB-0120—foam.

NSN: 8520-00-NIB-0121—gel.

NPA: Travis Association for the Blind, Austin, TX.

Contracting Activity: Department Of Veterans Affairs, NAC, Hines, IL.

Service:

Service Type/Location: Carpet Replacement, Smithsonian National Gallery of Art, 6th & Constitution Avenue NW., Washington, DC.

NPA: Unknown.

Contracting Activity: National Gallery of Arts, Washington, DC.

Patricia Briscoe,
Deputy Director, Business Operations (Pricing and Information Management).

[FR Doc. 2014-01420 Filed 1-23-14; 8:45 am]

BILLING CODE 6353-01-P